DEPARTMENT OF ENERGY

10 CFR Part 431

[Docket No. EERE-2012-BT-STD-0029]

RIN 1904-AC82

Energy Efficiency Program for Commercial and Industrial Equipment: Public Meeting and Availability of the Framework Document for Packaged Terminal Air Conditioners and Packaged Terminal Heat Pumps

AGENCY: Office of Energy Efficiency and Renewable Energy, Department of Energy.

ACTION: Extension of public comment period.

SUMMARY: On February 22, 2013, the U.S. Department of Energy (DOE) published a document in the Federal Register initiating a rulemaking to evaluate energy conservation standards for packaged terminal air conditioners (PTACs) and packaged terminal heat pumps (PTHPs). In that document, DOE announced the availability of a framework document. This document announces an extension of the public comment period for submitting comments on the framework document or any other aspect of the rulemaking for PTACs and PTHPs. The comment period is extended to April 25, 2013.

DATES: DOE will accept comments, data, and information regarding the framework document received no later than April 25, 2013.

ADDRESSES: Any comments submitted must identify the framework document for packaged terminal air conditioners and packaged terminal heat pumps and provide docket number EERE-2012-BT-STD-0029 and/or RIN number 1904-AC82. Comments may be submitted using any of the following methods:

• Federal eRulemaking Portal: http://www.regulations.gov. Follow the instructions for submitting comments.

• Email: pkgTerminalAC-HP2012STD0029@ee.doe.gov. Include EERE-2012-BT-STD-0029 in the subject line of the message.

• Mail: Ms. Brenda Edwards, U.S. Department of Energy, Building Technologies Program, Mailstop EE-2J, Framework Document for PTACs and PTHPs, Docket No. EERE-2012-BT-STD-0029 and/or RIN 1904-AC82, 1000 Independence Avenue SW., Washington, DC 20585- 0121. Phone: (202) 586-2945. Please submit one signed paper original.

• Hand Delivery/Courier: Ms. Brenda Edwards, U.S. Department of Energy, Building Technologies Program, 6th Floor, 950 L'Enfant Plaza SW., Washington, DC 20024. Phone: (202) 586-2945. Please submit one signed paper original.

Docket: For access to the docket to read background documents, or comments received, go to the Federal eRulemaking Portal at http://www.regulations.gov.

FOR FURTHER INFORMATION CONTACT: Mr. Ronald Majette, U.S. Department of Energy, Office of Energy Efficiency and Renewable Energy, Building Technologies Program, EE-2J, 1000 Independence Avenue SW., Washington, DC 20585-0121. Telephone: (202) 586-7935. Email: PTACs@ee.doe.gov.

In the Office of the General Counsel, contact Ms. Jennifer Tiedeman, U.S. Department of Energy, Office of the General Counsel, GC-71, 1000 Independence Avenue SW., Washington, DC 20585-0121. Telephone: (202) 287-6111. Email: Jennifer.Tiedeman@hq.doe.gov.

SUPPLEMENTARY INFORMATION: On February 22, 2013, DOE published a document in the Federal Register announcing a public meeting and the availability of a framework document as a first step in the rulemaking process to consider amending energy conservation standards for packaged terminal air conditioners and packaged terminal heat pumps. 78 FR 12252. The document provided for the submission of written comments by March 25, 2013, and oral comments were also accepted at a public meeting held on March 18, 2013. Stakeholders have requested an extension of the comment period to allow additional time for the preparation of their comments and to respond to issues raised at the public meeting.

DOE has determined that a brief extension of the public comment period is appropriate to allow stakeholders additional time to submit comments to DOE for consideration. DOE will consider any comments received by April 25, 2013 to be timely submitted.

Issued in Washington, DC, on March 19, 2013.
Kathleen B. Hogan,
Deputy Assistant Secretary for Energy Efficiency, Energy Efficiency and Renewable Energy.

[FR Doc. 2013-06747 Filed 3-22-13; 8:45 am]

BILLING CODE 6450-01-P